DEPARTMENT OF ENERGY

Federal Energy Regulatory Commission

[Docket No. CP06-51-000]

East Tennessee Natural Gas, LLC; Notice of Request Under Blanket Authorization

January 24, 2006.

Take notice that on January 19, 2006, East Tennessee Natural Gas, LLC (East Tennessee), P.O. Box 1642, Houston, Texas 77251-1642, filed in Docket No. CP06-51-000, an application pursuant to sections 157.205, 157.208, and 157.216 of the Commission's Regulations under the Natural Gas Act (NGA) as amended, for authorization to acquire approximately 33 miles of 10-inch diameter pipeline (New Facilities) currently owned by Duke Energy Gas Services, LLC (DEGS), under East Tennessee's blanket certificate issued in Docket No. CP82-412-000, all as more fully set forth in the application which is on file with the Commission and open to public inspection.

East Tennessee states that it proposes to acquire the New Facilities from DEGS and to operate the pipeline as a jurisdictional transmission pipeline from Lee County, Virginia, to an interconnection with East Tennessee's Hawkins County lateral in Rogersville, Tennessee. East Tennessee also states that it would not perform any construction in connection with its purchase of the New Facilities. East Tennessee states that it would purchase the New Facilities from DEGS at a price equivalent to their net book value at the time of closing, estimated at $8,794,217.

Any questions concerning this application may be directed to Steven E. Tillman, General Manager, Regulatory Affairs, East Tennessee Natural Gas, LLC, P.O. Box 1642, Houston, Texas 77251-1642; telephone 713-627-5113 or facsimile 713-627-5947.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Magalie R. Salas,
Secretary.

[FR Doc. E6-1236 Filed 1-31-06; 8:45 am]

BILLING CODE 6717-01-P